DEPARTMENT OF THE INTERIOR

Bureau of Land Management

[NV-020-1430-01; N-62843]

Notice of Plan Amendment and Notice of Realty Action, Direct Sale of Public Sale, Humboldt County, NV

SUMMARY: The Bureau of Land Management (BLM) is amending the Paradise-Denio Management Framework Plan (MFP), as amended, to change the land tenure designation from retention to disposal on 953.56 acres of land in Humboldt County, Nevada. BLM examined the following described federal lands and through the land use planning process determined them suitable for disposal by direct sale, including the mineral estate with no known value, pursuant to Sections 203 and 209 of the Federal Land Policy and Management Act of October 21, 1976 ( 43 U.S.C. 1713 and 1719), at no less than fair market value.

Federal lands determined suitable for direct sale are described as:

Mount Diablo Meridian, Nevada

T. 43 N., R. 27 E.,

Sec. 2: S½NW¼;

Sec. 3: Lots 5, 6, 7, and 8;

Sec. 4: Lots 5 and 6.

T. 44 N., R. 27 E.,

Sec. 28: Lots 5, 6, and 7;

Sec. 33: NE¼, N½SE¼;

Sec. 34: NW¼, N½SW¼.

Containing approximately 953.36 acres.

The lands are not required for federal purposes, and it has been determined that disposal of these parcels would be in the public's interest. The land is being offered by direct sale to Richard Drake. It has been determined that the subject parcels contain no known mineral values. Acceptance of a direct sale offer will constitute an application for conveyance of those mineral interests having no known value. The applicant will be required to pay a $50.00 non-refundable filing fee for conveyance of the said mineral interests.

The land will not be offered for sale until at least 60 days after publication of this notice in the Federal Register.

FOR FURTHER INFORMATION CONTACT: Mary Figarelle, Realty Specialist, Bureau of Land Management, Winnemucca Field Office, 5100 East Winnemucca Boulevard, Winnemucca, Nevada 89445 (775) 623-1500.

SUPPLEMENTARY INFORMATION: The public lands being offered to Richard Drake are interspersed with his private land which is used to grow alfalfa, and would be cultivated and incorporated into his existing agricultural operation. The above described land is hereby segregated from appropriation under the public land laws, including the mining laws, but not from sale under the above cited statues, for 270 days from the date of publication of this notice, or until title transfer is completed or the segregation is terminated by publication in the Federal Register, whichever occurs first.

A patent, when issued, will contain the following reservations to the United States,

1. A right-of-way thereon for ditches or canals constructed by the authority of the United States pursuant to the Act of August 30, 1890 (26 Stat. 391; 43 U.S.C. 945).

Will contain the following reservation to Humboldt County, Nevada,

1. An easement 60 feet in width for existing Humboldt County Route 203 (a.k.a.: Knott Creek Road), for road and public utility purposes to insure ingress and egress to adjacent public lands. The existing road is located in T. 43 N., R. 27 E., Sec. 3: Lot 6, and T. 44 N., R. 27 E., Sec. 34: E½E½NW¼, E½E½NW¼SW¼, MDM, NV.

And will be subject to,

1. Those rights granted to Alder Creek Ranch for an irrigation ditch under BLM Right-of-way NEV-057027.

2. Those rights granted to Harney Electric Cooperative, Inc., for an aerial power distribution line under BLM Right-of-way NEV-058651.

3. Those rights granted to Oregon-Idaho Utilities, Inc., dba Humboldt Telephone Co. for an aerial telephone line under BLM Right-of-way N-4524.

Planning Protests: Any party that participated in the plan amendment and is adversely affected by the amendment may protest this action as it affects issues submitted for the record during the planning process. The protests shall be in writing and filed with the Director (WO-210), Bureau of Land Management, 1849 “C” Street NW., Washington, DC 20240 within 30 days of this notice. Associated planning documents may be examined at the Winnemucca Field Office between 7:30 AM and 4:30 PM, Monday through Friday.

Application Comments: For a period of 45 days from the date of publication of this notice in the Federal Register, interested persons may submit comments regarding the proposed conveyance of the land to the Field Manager, Bureau of Land Management, Winnemucca Field Office, 5100 East Winnemucca Boulevard, Winnemucca, Nevada 89445. Objections will be reviewed by the Field Manager who may sustain, vacate, or modify this realty action.

Dated: July 18, 2000.
Michael Holbert,
Associate Field Manager, Winnemucca Field Office.

[FR Doc. 00-19064 Filed 7-27-00; 8:45 am]

BILLING CODE 4310-HC-P